DEPARTMENT OF THE INTERIOR

National Park Service

Notice of Intent To Repatriate a Cultural Item: Field Museum of Natural History, Chicago, IL

AGENCY: National Park Service, Interior.

ACTION: Notice.

Notice is here given in accordance with the Native American Graves Protection and Repatriation Act (NAGPRA), 43 CFR 10.8(f), of the intent to repatriate a cultural item in the possession of the Field Museum of Natural History, Chicago, IL, that meets the definition of “sacred object” under 25 U.S.C. 3001.

This notice is published as part of the National Park Service's administrative responsibilities under NAGPRA, 43 CFR 10.8(f). The determinations in this notice are the sole responsibility of the museum, institution, or Federal agency that has control of the cultural item. The National Park Service is not responsible for the determinations in the notice.

The cultural item is a totemic carving in the shape of a salmon (catalog number 14422). The carving is wood, and details such as the eye, mouth, gill, fins, and scales of the salmon are carved in low relief. The salmon is painted red and blue on a black background on one side. No details are carved or painted on the other side of the salmon. The carving is 2 feet 5 inches long, 8 inches at its widest point, and ½ inch thick. Three holes through the body of the salmon appear to be from nails.

At an unknown date Edward E. Ayer acquired the carving. In 1894, Mr. Ayer donated the carving to the Field Museum of Natural History and it was accessioned into the museum's collection in the same year (accession number 112). Museum records do not indicate how Mr. Ayer acquired the cultural object.

The cultural affiliation of the carving is Sitka Tlingit, as indicated by museum records and by consultation evidence presented by the Central Council of the Tlingit & Haida Indian Tribes. The Central Council of the Tlingit & Haida Indian Tribes requested the return of the carving on behalf of the L'ooknax.ádi clan. Museum records indicate that the carving is a “Totem of Kuthouse family-raven clan—Originally of gunah ho village [unknown word] Alsek River Northern Sitka.” The “gunah ho village” mentioned in museum records appears to be the equivalent of Gunaaxoo, the ancestral home of the L'ooknax.ádi clan near the Alsek River in Alaska.

Officials of the Field Museum of Natural History have determined that, pursuant to 25 U.S.C. 3001 (3)(C), the cultural item is a specific ceremonial object needed by traditional Native American religious leaders for the practice of traditional Native American religions by their present-day adherents. Officials of the Field Museum of Natural History also have determined that, pursuant to 25 U.S.C. 3001 (2), there is a relationship of shared group identity that can be reasonably traced between the sacred object and the Central Council of the Tlingit & Haida Indian Tribes, on behalf of the L'ooknax.ádi clan.

Officials of the Field Museum of Natural History assert that, pursuant to 25 U.S.C. 3001 (13), the Field Museum of Natural History has right of possession of the sacred object. Officials of the Field Museum of Natural History recognize the significance of the sacred object to the L'ooknax.ádi clan as represented by the Central Council of the Tlingit & Haida Indian Tribes and reached an agreement with the Central Council of the Tlingit & Haida Indian Tribes that allows the Field Museum of Natural History to return the sacred object to the Central Council of the Tlingit & Haida Indian Tribes voluntarily, pursuant to the compromise of claim provisions of the Field Museum of Natural History's repatriation policy.

Representatives of any other Indian tribe that believes itself to be culturally affiliated with the sacred object should contact Jonathan Haas, MacArthur Curator of the Americas, Field Museum of Natural History, 1400 South Lake Shore Drive, Chicago, IL 60605, telephone (312) 665-7829, before August 19, 2004. Repatriation of the sacred object to the Central Council of the Tlingit & Haida Indian Tribes on behalf of the L'ooknax.ádi clan may proceed after that date if no additional claimants come forward.

The Field Museum of Natural History is responsible for notifying the Central Council of the Tlingit & Haida Indian Tribes, L'ooknax.ádi clan, Sealaska Corporation, Shee Atika, Inc., and Sitka Tribe of Alaska that this notice has been published.

John Robbins,
Assistant Director, Cultural Resources.

[FR Doc. 04-16145 Filed 7-19-04; 8:45 am]

BILLING CODE 4312-50-P